DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, November Voting and Registration Supplement.

OMB Control Number: 0607-0466.

Form Number(s): None.

Type of Request: Reinstatement, with change, of an expired collection.

Burden Hours: 1,300.

Number of Respondents: 52,000.

Average Hours per Response: 1 and a half minutes.

Needs and Uses: The U.S. Census Bureau requests authorization from the Office of Management and Budget (OMB) to conduct the November 2012 and 2014 Voting and Registration supplement to the Current Population Survey (CPS). The Voting and Registration supplement continues the biennial collection of data concerning voting and registration that has been asked periodically since 1964. The data yield statistics on voter (and nonvoter) characteristics and current voter trends. The data also will enable policymakers to keep issues up to date, such as changes in participation in the election process by demographic characteristics such as age, sex, race, ethnicity, and educational attainment. This submission includes the unchanged Voting and Registration Supplement with the deletion of the Civic Engagement Supplement.

The primary purpose of collecting the voting data from the November CPS supplement is to relate demographic characteristics (age, sex, race, education, occupation, and income) to voting and nonvoting behavior. Federal, state, and local election officials; college institutions; political party committees; research groups; and other private organizations will use the voting and registration data collected in the November CPS supplement. Election officials use these data to formulate policies relating to the voting and registration process. Data obtained on duration of residence will allow policymakers and researchers to better determine the relationships between other demographic characteristics and voting behavior. Previous studies have shown that the voting and registration characteristics of recent movers differ greatly from those of nonmovers. By collecting and presenting data at the state level, we will also obtain information on the effectiveness of increased voter registration drives in different regions.

Discontinuance of the Voting and Registration Supplement would disrupt a data series that has been in existence for the past 46 years. Since 1964, these data have provided statistical information for tracking historical trends of voter and nonvoter characteristics in each presidential and congressional election.

Affected Public: Individuals or households.

Frequency: Biennially.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW, Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: August 22, 2012.
Glenna Mickelson,
Management Analyst, Office of the Chief Information Officer.

[FR Doc. 2012-21096 Filed 8-27-12; 8:45 am]

BILLING CODE 3510-07-P